DEPARTMENT OF JUSTICE

Antitrust Division

Notice Pursuant to The National Cooperative Research and Production Act of 1993—The Open Group, L.L.C.

Notice is hereby given that, on November 11, 2022, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, Alitech SAS, Boulogne Billancourt, FRANCE; Capricorn Energy Holdings, Limited, Edinburgh, UNITED KINGDOM; ClearBlade, Inc., Austin, TX; ETC Enterprise Training Center, GmbH, Vienna, AUSTRIA; Forcepoint Federal Holdings, Herndon, VA; Innovative Enterprise Architects, Pune, INDIA; Iron Wolf Software Corp, Huntington Beach, CA; KeyCaliber, Inc., Washington, DC; Kraken IM, Middlesbrough, UNITED KINGDOM; Mult Services MG Tecnologia e Informatice Ltda, Belo Horizonte, BRAZIL; ODU-USA INC, Camarillo, CA; Pacific Defense Strategies, Inc., El Segundo, CA; Pando Scape, Inc., Cypress, TX; Principle Defence, Hitchin, UNITED KINGDOM; Renad Almajd for Tech & Info Company, Riyadh City, SAUDI ARABIA; Rolls-Royce plc, London, UNITED KINGDOM; Smart Africa, Kacyiru, RWANDA; Sygnia Consulting Ltd, Tel Aviv, ISRAEL; Tangram Flex, Inc., Dayton, OH; Tercero Technologies, Chicago, IL; The UK Offshore Energies Association Limited, London, UNITED KINGDOM; Tipp Focus Holdings (Pty) Ltd, Johannesburg, SOUTH AFRICA; and TRM Technologies Inc., Ottawa, CANADA, have been added as parties to this venture.

Also, 1 World Training, Dallas, TX; Aegon EDC Limited, Edinburgh, UNITED KINGDOM; ALVRO S.à.r.l, Luxembourg City, LUXEMBOURG; Armis Security, Palo Alto, CA; Avalex Technologies, Gulf Breeze, FL; Bvolve B.V., Amersfoort, THE NETHERLANDS; Chameleon Consulting Group, L.L.C., Leesburg, VA; Common Data Access Limited, London, UNITED KINGDOM; Cynosure, Inc., Wichita, KS; Databricks Inc., San Francisco, CA; Digital Petroleum LLC, Moscow, RUSSIAN FEDERATION; DRS Signal Solutions, Inc., Germantown, MD; Geoprocesados, SA de CV, Villahermosa, MEXICO; Intelie, Inc., Houston, TX; Intelligent Wellhead Systems Inc., Alberta, CANADA; Iraya Energies SDN BHD, Kuala Lumpur, MALAYSIA; MAILLANCE SAS, Paris, FRANCE; Memorial University of Newfoundland, St. John's, CANADA; Mr Doc SRL, Rome, ITALY; NORCE Norwegian Research Centre AS, Bergen, NORWAY; ResFrac Corporation, Palo Alto, CA; Spectranetix, Inc., Sunnyvale, CA; Stonebridge Consulting, LLC, Tulsa OK; and The University of Oslo, Oslo, NORWAY, have withdrawn as parties to this venture.

Additionally, Eturnti Enterprise Consulting Pvt Ltd has changed its name to Eturnity Business Design, Bangalore, INDIA; Oil and Gas Authority to North Sea Transition Authority, London, UNITED KINGDOM; and Tayllor & Cox s.r.o. to TAYLLORCOX s.r.o., Prague, CZECH REPUBLIC.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on August 1, 2022. A notice was published in the Federal Register pursuant to Section 6(b) of the Act on August 30, 2022 (87 FR 53006).

Suzanne Morris,
Deputy Director of Civil Enforcement Operations, Antitrust Division.

[FR Doc. 2023-01341 Filed 1-23-23; 8:45 am]

BILLING CODE P